FEDERAL DEPOSIT INSURANCE CORPORATION

12 CFR Part 360

RIN 3064-AF75

Securitization Safe Harbor Rule; Correction

AGENCY: Federal Deposit Insurance Corporation (FDIC).

ACTION: Correcting amendment.

SUMMARY: This document contains a correction to the final regulation related to the Securitization Safe Harbor Rule which was published in the Federal Register on March 4, 2020.

DATES: Effective on April 8, 2021.

FOR FURTHER INFORMATION CONTACT: F. Angus Tarpley III, Counsel, Receivership Policy Unit, Legal Division, (703) 562-2434, ftarpley@FDIC.gov; Phillip E. Sloan, Counsel, Receivership Policy Unit, Legal Division, (703) 562-6137, psloan@fdic.gov; Alys V. Brown, Honors Attorney, Strategic Planning & Operations Group, Legal Division, (202) 898-3565, alybrown@fdic.gov.

SUPPLEMENTARY INFORMATION:

Background

The final regulation that is the subject of this correction revised the FDIC's Securitization Safe Harbor Rule, which relates to the treatment of financial assets transferred in connection with a securitization transaction, in order to eliminate a requirement that the securitization documents require compliance with Regulation AB of the Securities and Exchange Commission in circumstances where Regulation AB by its terms would not apply to the issuance of obligations backed by such financial assets.

Need for Correction

As published, the final regulation contains an error in the Federal Register instructions to amend the list of authorities cited for 12 CFR part 360.

List of Subjects in 12 CFR Part 360

Banks, Banking, Bank deposit insurance, Holding companies, National banks, Participations, Reporting and recordkeeping requirements, Savings associations, Securitizations.

PART 360—[AMENDED]

For the reasons stated in the preamble, and under the authority of 12 U.S.C. 1819, the FDIC revises the authority citation for 12 CFR part 360 to read as follows:

Authority: 12 U.S.C. 1811 et seq., 1817(b), 1818(a)(2), 1818(t), 1819(a) Seventh, Ninth, and Tenth, 1820(b)(3) and (4), 1820(g), 1821(d)(1), 1821(d)(10)(C), 1821(d)(11), 1821(e)(1), 1821(e)(8)(D)(i), 1821(f)(1), 1822(c), 1823(c)(4), and 1823(e)(2).

Federal Deposit Insurance Corporation.
Dated at Washington, DC, on or about March 25, 2021.
James P. Sheesley,
Assistant Executive Secretary.

[FR Doc. 2021-06724 Filed 4-7-21; 8:45 am]

BILLING CODE 6714-01-P